FEDERAL FINANCIAL INSTITUTIONS EXAMINATION COUNCIL

Appraisal Subcommittee; 60 Day Notice of Intent To Request Emergency Reinstatement of Collection of Information; Opportunity for Public Comment

AGENCY: Appraisal Subcommittee, Federal Financial Institutions Examination Council.

ACTION: Notice of intent to request from the Office of Management and Budget (“OMB”) emergency reinstatement for six months of a previously approved collection of information and request for comments.

SUMMARY: In accordance with the Paperwork Reduction Act of 1995 and 5 CFR Part 1320, Reporting and Recordkeeping Requirements, the Appraisal Subcommittee of the Federal Financial Institutions Examination Council (“ASC”) is soliciting comments on the need for the collection of information contained in 12 CFR Part 1102, Subpart D, Description of Office, Procedures, Public Information. The ASC also requests comments on the practical utility of the collection of information; the accuracy of the burden hour estimate; ways to enhance the quality, utility, and clarity of the information to be collected; and ways to minimize the burden to respondents, including use of automated information collection techniques or other forms of information technology.

DATES: Comments on this information collection must be received on or before June 7, 2004.

ADDRESSES: Send comments to Ben Henson, Executive Director, Appraisal Subcommittee, 2000 K Street, NW., Suite 310, Washington, DC 20006.

FOR FURTHER INFORMATION CONTACT: Marc L. Weinberg, General Counsel, Appraisal Subcommittee, at 2000 K Street, NW., Suite 310, Washington, DC 20006 or 202-293-6250.

SUPPLEMENTARY INFORMATION: Title: 12 CFR Part 1102, Subpart D; Description of Office, Procedures, Public Information.

ASC Form Number: None.

OMB Number: 3139-0006.

Expiration Date: October 2004 (specific date to be determined at time of OMB emergency approval).

Type of Request: Emergency reinstatement.

Description of Need: The information sets out detailed procedures implementing the Freedom of Information Act, as amended. 12 U.S.C. 552.

Automated Data Collection: None.

Description of Respondents: State, local or tribal government; individuals or households, business or other for-profit institutions; not-for-profit institutions; farms; and Federal government.

Estimated Average Number of Respondents: 11 respondents.

Estimated Average Number of Responses: Once per respondent.

Estimated Average Burden Hours Per Response: .5 hours.

Estimated Annual Reporting Burden: 5.5 hours.

By the Appraisal Subcommittee of the Federal Financial Institutions Examination Council.
Dated: March 31, 2004.
Ben Henson,
Executive Director.

[FR Doc. 04-7669 Filed 4-5-04; 8:45 am]

BILLING CODE 6700-01-P